DEPARTMENT OF HOMELAND SECURITY

Coast Guard

33 CFR Part 117

[Docket No. USCG-2022-0222]

Drawbridge Operation Regulation; Okeechobee Waterway, Stuart, FL

AGENCY: Coast Guard, Department of Homeland Security (DHS).

ACTION: Notice of temporary deviation from regulations; modification.

SUMMARY: The Coast Guard is modifying a temporary deviation from the operating schedule that governs the Florida East Coast (FEC) Railroad Bridge, across the Okeechobee Waterway (OWW), mile 7.41, at Stuart, Florida. This modification extends the period the drawbridge may operate under the temporary deviation to the drawbridge operating schedule. This modification will allow the Coast Guard to review public comments and will provide continuity in the operation of the drawbridge until a determination is made if this temporary deviation will meet the reasonable needs of competing modes of transportation.

DATES: This deviation is effective from 12:01 a.m. on December 18, 2023, through 11:59 p.m. on February 11, 2024.

ADDRESSES: To view documents mentioned in this preamble as being available in the docket, go to https://www.regulations.gov, type the docket number (USCG-2022-0222) in the “SEARCH” box and click “SEARCH”. In the Document Type column, select “Supporting & Related Material”.

FOR FURTHER INFORMATION CONTACT: If you have questions on this temporary deviation, call or email Ms. Jennifer Zercher, Bridge Management Specialist, Seventh Coast Guard District; telephone 305-415-6740, email Jennifer.N.Zercher@uscg.mil.

SUPPLEMENTARY INFORMATION: The Florida East Coast (FEC) Railroad Bridge across the Okeechobee Waterway (OWW), mile 7.41, at Stuart, Florida, is a single-leaf bascule bridge with a six-foot vertical clearance at mean high water in the closed position. The normal operating schedule for the bridge is found in 33 CFR 117.317(c).

On August 11, 2023, the Coast Guard published a temporary deviation entitled “Drawbridge Operation Regulation; Okeechobee Waterway, Stuart, FL” in the Federal Register (88 FR 54487). That temporary deviation, effective from 12:01 a.m. on August 15, 2023, through 11:59 p.m. on December 17, 2023, allows the drawbridge to operate on a more predictable schedule due to the significant increase in railway activity.

On November 7, 2023, the Coast Guard published a notice reopening the comment period until November 30, 2023, because service was delayed on the passenger train (88 FR 76666).

The Coast Guard has determined an extension of the temporary deviation is necessary to allow for the review of public comments, while providing continuity in the operation of the drawbridge until a determination is made if this temporary deviation will meet the reasonable needs of competing modes of transportation.

Under this temporary deviation modification from 12:01 a.m. on December 18, 2023, through 11:59 p.m. on February 11, 2024, the FEC Railroad Bridge will be maintained in the fully open-to-navigation position, except during periods when it is closed for the passage of train traffic, to conduct inspections, and to perform maintenance and repairs authorized by the Coast Guard. However, the bridge will not be closed for more than 50 consecutive minutes in any given hour during daytime operations (6 a.m. to 10 p.m.) and for more than 8 total hours during daytime operations (6 a.m. to 10 p.m.).

Notwithstanding the above paragraph, the drawbridge will open and remain open to navigation for a fixed 10-minute period at the top of each hour from 6 a.m. to 10 p.m. In addition, the drawbridge will open and remain open to navigation for a fixed 15-minute period as outlined in the table below:

Table 1
Monday through Friday:
8:55 a.m. through 9:10 a.m.
Saturday and Sunday:
8:55 a.m. through 9:10 a.m.
9:55 a.m. through 10:10 a.m.
10:55 a.m. through 11:10 a.m.
12:55 p.m. through 1:10 p.m.
4:55 p.m. through 5:10 p.m.

From 10:01 p.m. until 5:59 a.m. daily, the drawbridge will remain in the fully open-to-navigation position, except during periods when it is closed for the passage of train traffic, to conduct inspections, and to perform maintenance and repairs authorized by the Coast Guard. The drawbridge will not be closed more than 60 consecutive minutes.

If a train is in the track circuit at the start of a fixed opening period, the opening may be delayed up to, but not more than, five minutes. Once the train has cleared the circuit, the bridge must open immediately for navigation to begin the fixed opening period.

In the event of a drawbridge operational failure, or other emergency circumstances impacting normal drawbridge operations, the drawbridge owner will immediately notify the Coast Guard Captain of the Port Miami and provide an estimated time of repair and return to normal operations.

The drawbridge will be tended from 6 a.m. to 10 p.m., daily. The bridge tender will monitor VHF-FM channels 9 and 16 and will provide estimated times of drawbridge openings and closures, or any operational information requested. Operational information will be provided 24 hours a day by telephone at (772) 403-1005.

The drawbridge owner will maintain a mobile application. The drawbridge owner will publish drawbridge opening times, and the drawbridge owner will provide timely updates to schedules, including but not limited to, impacts due to emergency circumstances, inspections, maintenance, and repairs authorized by the Coast Guard.

Signs will be posted and visible to marine traffic, displaying VHF radio contact information, application information, and the telephone number for the bridge tender.

A drawbridge logbook will be maintained including the date and time of each closing and opening of the draw. The drawbridge logbook will also include all maintenance opening, closings, malfunctions, or other comments. During the temporary deviation, a copy of the drawbridge logbook for the previous week will be provided to the Seventh Coast Guard District Bridge Manager by 4:00 p.m. each Monday.

In accordance with 33 CFR 117.35(e), the drawbridge must return to its regular operating schedules immediately at the end of the effective period of this temporary deviation. This deviation from the operating regulation is authorized pursuant to 33 CFR 117.35(a).

Dated: December 3, 2023.
Douglas M. Schofield,
Rear Admiral, U.S. Coast Guard, Commander, Coast Guard Seventh District.

[FR Doc. 2023-26850 Filed 12-6-23; 8:45 am]

BILLING CODE 9110-04-P